DEPARTMENT OF COMMERCE

International Trade Administration

[A-201-837, A-570-954]

Certain Magnesia Carbon Bricks From Mexico and the People's Republic of China: Antidumping Duty Orders

AGENCY: Import Administration, International Trade Administration, Department of Commerce.

SUMMARY: Based on affirmative final determinations by the Department of Commerce (the Department) and the International Trade Commission (the ITC), the Department is issuing antidumping duty orders on certain magnesia carbon bricks (MCB) from Mexico and the People's Republic of China (PRC). On September 8, 2010, the ITC notified the Department of its affirmative determinations of material injury to a U.S. industry. See Certain Magnesia Carbon Bricks from China and Mexico (Investigation Nos. 701-TA-468 and 731-TA-1166-1167 (Final), USITC Publication 4182, September 2010).

DATES: Effective Date: September 20, 2010.

FOR FURTHER INFORMATION CONTACT: David Goldberger (Mexico) or Paul Walker (PRC), AD/CVD Operations, Offices 2 and 9 respectively, Import Administration, International Trade Administration, U.S. Department of Commerce, 14th Street and Constitution Avenue, NW., Washington, DC 20230; telephone: (202) 482-4136 or (202) 482-0413, respectively.

SUPPLEMENTARY INFORMATION:

Background

On August 2, 2010, the Department published its affirmative final determinations of sales at less than fair value in the antidumping duty investigations of MCB from Mexico and the PRC. See Certain Magnesia Carbon Bricks from Mexico: Notice of Final Determination of Sales at Less Than Fair Value, 75 FR 45097 (August 2, 2010); and Certain Magnesia Carbon Bricks from the People's Republic of China: Final Determination of Sales at Less Than Fair Value and Critical Circumstances, 75 FR 45468 (August 2, 2010) (MCB from the PRC Final).

On September 8, 2010, the ITC notified the Department of its final determinations pursuant to section 735(d) of the Tariff Act of 1930, as amended (the Act), that an industry in the United States is materially injured by reason of less-than-fair-value imports of MCB from Mexico and the PRC.¹ See section 735(b)(1)(A)(i) of the Act. In addition, the ITC notified the Department of its final determination that critical circumstances do not exist with respect to imports of subject merchandise from the PRC that are subject to the Department's affirmative critical circumstances finding.² Pursuant to section 736(a) of the Act, the Department is publishing antidumping duty orders on the subject merchandise.

¹ Because the vote of the ITC with respect to imports of MCB from Mexico was evenly divided between an affirmative determination of material injury and a negative determination, the Department is treating this vote, for purposes of duty assessment, as an affirmative finding of material injury consistent with section 771(11) of the Act. Likewise, because the vote of the ITC with respect to imports of MCB from the PRC was evenly divided between a determination of material injury and a determination of threat of material injury, the Department is treating this vote, for purposes of duty assessment, as an affirmative finding of material injury consistent with section 771(11) of the Act.

² Critical circumstances were not alleged with respect to imports of subject merchandise from Mexico.

Scope of the Orders

The scope of these orders includes certain chemically-bonded (resin or pitch), magnesia carbon bricks with a magnesia component of at least 70 percent magnesia (“MgO”) by weight, regardless of the source of raw materials for the MgO, with carbon levels ranging from trace amounts to 30 percent by weight, regardless of enhancements (for example, magnesia carbon bricks can be enhanced with coating, grinding, tar impregnation or coking, high temperature heat treatments, anti-slip treatments or metal casing) and regardless of whether or not antioxidants are present (for example, antioxidants can be added to the mix from trace amounts to 15 percent by weight as various metals, metal alloys, and metal carbides). Certain magnesia carbon bricks that are the subject of these orders are currently classifiable under subheadings 6902.10.1000, 6902.10.5000, 6815.91.0000, 6815.99.2000 and 6815.99.4000 of the Harmonized Tariff Schedule of the United States (“HTSUS”). While HTSUS subheadings are provided for convenience and customs purposes, the written description is dispositive.

Provisional Measures

Section 733(d) of the Act states that suspension of liquidation instructions issued pursuant to an affirmative preliminary determination may not remain in effect for more than four months except where exporters representing a significant proportion of exports of the subject merchandise request the Department to extend that four-month period to no more than six months. At the request of the exporters that accounted for a significant proportion of exports of the subject merchandise in the investigations of MCB from Mexico and the PRC, we extended the four-month period to no more than six months. See Certain Magnesia Carbon Bricks from Mexico: Notice of Preliminary Determination of Sales at Less Than Fair Value and Postponement of Final Determination, 75 FR 11517 (March 11, 2010) (MCB from Mexico Prelim); and Certain Magnesia Carbon Bricks from the People's Republic of China: Preliminary Determination of Sales at Less Than Fair Value and Postponement of Final Determination 75 FR 11847 (March 12, 2010) (MCB from the PRC Prelim).

In these investigations, the six-month period beginning on the date of the publication of the preliminary determinations (i.e., March 11, 2010, for Mexico and March 12, 2010, for the PRC) will end on September 7, 2010, and September 8, 2010, respectively. Furthermore, section 737 of the Act states that definitive duties are to begin on the date of publication of the ITC's final injury determination. Therefore, in accordance with section 733(d) of the Act, we will instruct U.S. Customs and Border Protection (CBP) to terminate the suspension of liquidation and to liquidate, without regard to antidumping duties, unliquidated entries of MCB from Mexico and the PRC entered, or withdrawn from warehouse, for consumption on or after September 7, 2010, for Mexico and September 8, 2010, for the PRC, and before the date of publication of the ITC's final injury determination in the Federal Register. Suspension of liquidation will resume on or after the date of publication of the ITC's final injury determination in the Federal Register.

Antidumping Duty Orders

On September 8, 2010, in accordance with section 735(d) of the Act, the ITC notified the Department of its final determinations that an industry in the United States is materially injured within the meaning of section 735(b)(1)(A)(i) of the Act by reason of less-than-fair-value imports of MCB from Mexico and the PRC.

In accordance with section 736(a)(1) of the Act, the Department will direct CBP to assess, upon further advice by the Department, antidumping duties equal to the amount by which the normal value of the merchandise exceeds the export price or constructed export price of the merchandise for all relevant entries of MCB from Mexico and the PRC. These antidumping duties will be assessed on all unliquidated entries of MCB entered from Mexico and the PRC, or withdrawn from warehouse, for consumption on or after March 11, 2010 (Mexico), or March 12, 2010 (PRC), the date on which the Department published its notices of preliminary determination in the Federal Register, but prior to September 7, 2010 (Mexico), or September 8, 2010 (PRC). See MCB from Mexico Prelim, 75 FR at 11521; and MCB from the PRC Prelim, 75 FR at 11848.

On or after the date of publication of the ITC's notice of final determinations in the Federal Register, CBP, pursuant to section 736(a)(3) of the Act, will require, at the same time as importers would normally deposit estimated duties on this merchandise, a cash deposit equal to the estimated dumping margins listed below. The estimated dumping margins for imports of subject merchandise from the PRC will be adjusted for export subsidies found in the final determination of the companion countervailing duty investigation of this merchandise imported from the PRC. See Certain Magnesia Carbon Bricks from the People's Republic of China: Final Affirmative Countervailing Duty Determination, 75 FR 45472 (August 2, 2010). Specifically, for cash deposit purposes, we are subtracting from the applicable cash deposit rate that portion of the rate attributable to the export subsidies found in the affirmative countervailing duty determination on MCB from the PRC for respondent RHI Refractories Liaoning Co., Ltd. and for the separate-rate companies, whose rate is the calculated rate received by RHI Refractories Liaoning Co., Ltd. See MCB from the PRC Final, 75 FR at 45471.

Exporter | Producer | Margin
Mexico
RHI-Refmex S.A. de C.V | RHI-Refmex S.A. de C.V | 57.90
All Others |  | 57.90
PRC
RHI Refractories Liaoning Co., Ltd | RHI Refractories Liaoning Co., Ltd | 128.10
Dashiqiao City Guancheng Refractor Co., Ltd | Dashiqiao City Guancheng Refractor Co., Ltd | 128.10
Fengchi Imp. And Exp. Co., Ltd. Of Haicheng City | Fengchi Refractories Co., of Haicheng City | 128.10
Jiangsu Sujia Group New Materials Co. Ltd | Jiangsu Sujia Group New Materials Co. Ltd | 128.10
Liaoning Fucheng Refractories Group Co., Ltd | Liaoning Fucheng Refractories Group Co., Ltd | 128.10
Liaoning Fucheng Special Refractory Co., Ltd | Liaoning Fucheng Special Refractory Co., Ltd | 128.10
Liaoning Jiayi Metals & Minerals Co., Ltd | Liaoning Jiayi Metals & Minerals Co., Ltd | 128.10
Yingkou Bayuquan Refractories Co., Ltd | Yingkou Bayuquan Refractories Co., Ltd | 128.10
Yingkou Dalmond Refractories Co., Ltd | Yingkou Dalmond Refractories Co., Ltd | 128.10
Yingkou Guangyang Co., Ltd | Yingkou Guangyang Co., Ltd | 128.10
Yingkou Jiahe Refractories Co., Ltd | Yingkou Jiahe Refractories Co., Ltd | 128.10
Yingkou Kyushu Refractories Co., Ltd | Yingkou Kyushu Refractories Co., Ltd | 128.10
Yingkou New Century Refractories Ltd | Yingkou New Century Refractories Ltd | 128.10
Yingkou Wonjin Refractory Material Co., Ltd | Yingkou Wonjin Refractory Material Co., Ltd | 128.10
PRC-wide Entity* |  | 236.00
* This rate also applies to Liaoning Mayerton Refractories Co., Ltd. and Dalian Mayerton Refractories Co., Ltd.

With regard to the ITC negative critical circumstances determination on imports of the subject merchandise from the PRC, we will instruct CBP to lift suspension and to release any bond or other security, and refund any cash deposit made, to secure the payment of estimated antidumping duties with respect to entries of the merchandise entered, or withdrawn from warehouse, for consumption on or after December 12, 2009 (i.e., 90 days prior to the date of publication of the preliminary determination in the Federal Register), but before March 12, 2010.

This notice constitutes the antidumping duty orders with respect to MCB from Mexico and the PRC, pursuant to section 736(a) of the Act. Interested parties may contact the Department's Central Records Unit, Room 7046 of the Main Commerce Building, for copies of an updated list of antidumping duty orders currently in effect.

These orders are issued and published in accordance with section 736(a) of the Act and 19 CFR 351.211(b).

Dated: September 13, 2010.
Ronald K. Lorentzen,
Deputy Assistant Secretary for Import Administration.

[FR Doc. 2010-23427 Filed 9-17-10; 8:45 am]

BILLING CODE 3510-DS-P